FEDERAL COMMUNICATIONS COMMISSION

47 CFR Parts 1 and 4

[GN Docket No. 15-206; FCC 16-81, FCC 19-138; FR ID 195876]

Improving Outage Reporting for Submarine Cables and Enhanced Submarine Cable Outage Data

AGENCY: Federal Communications Commission.

ACTION: Final rule; announcement of effective and compliance dates.

SUMMARY: In this document, the Commission announces that the Office of Management and Budget (OMB) approved the information collection associated with the Commission's Report and Order and subsequent Order on Reconsideration. This document, consistent with those documents, fulfills the Commission's commitment that it would publish a document in the Federal Register announcing the effective date of those rules.

DATES:

Effective date: The amendments to 47 CFR 1.767 and 4.15, published at 81 FR 52354 on August 8, 2016, are effective January 10, 2024.

Compliance date: Compliance with 47 CFR 1.767 and 4.15, published at 81 FR 52354 on August 8, 2016, began on October 28, 2021.

FOR FURTHER INFORMATION CONTACT: Scott Cinnamon, Cybersecurity and Communications Reliability Division, Public Safety and Homeland Security Bureau, at (202) 418-2319, or email: scott.cinnamon@fcc.gov.

SUPPLEMENTARY INFORMATION: This document announces that, on March 25, 2021, OMB approved, for a period of three years, the information collection requirements relating to mandatory submarine outage reporting rules contained in the Commission's Order, FCC 16-81, published at 81 FR 52354, August 8, 2016. The OMB Control Number is 3060-1283. The Commission publishes this document as an announcement of the effective date of the rules. If you have any comments on the burden estimates listed below, or how the Commission can improve the collections and reduce any burdens caused thereby, please contact Nicole Ongele Federal Communications Commission, 45 L Street NE, Washington, DC 20554. Please include the OMB Control Number, 3060-1283, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on March 25, 2021, for the information collection requirements contained in the modifications to the Commission's rules in 47 CFR parts 1 and 4. Notice of that approval was published in the Federal Register on April 28, 2021 (see 86 FR 22360).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1283.

The foregoing notification is required by the Paperwork Reduction Act of 1995, Public Law 104-13, October 1, 1995, and 44 U.S.C. 3507.

The total annual reporting burdens and costs for the respondents are as follows:

OMB Control Number: 3060-1283.

OMB Approval Date: March 25, 2021.

OMB Expiration Date: March 31, 2024.

Title: Improving Outage Reporting for Submarine Cables and Enhanced Submarine Outage Data.

Form Number: N/A.

Respondents: Business or other for-profit entities.

Total Number of Respondents and Responses: 74 respondents; 336 respondents.

Estimated Time per Response: 2 hours.

Frequency of Response: On-occasion reporting requirements.

Obligation to Respond: The statutory authority for this information collection is contained in in 47 U.S.C. 34 through 39, 151, 154, 155, 157, 201, 251, 254, 301, 303(b), 303(g), 303(r), 307, 309(a), 309(j), 316, 332, 403, 615a-1, 615c, 1302(a), and 1302(b); 5 U.S.C. 301, and Executive Order No. 10530.

Total Annual Burden: 2,016 hours.

Total Annual Costs: No costs.

Needs and Uses: On July 12, 2016, the Commission released the Order, FCC 16-81, published at 81 FR 52355, August 8, 2016, adopting final rules—containing information collection requirements—establishing mandatory outage reporting requirements for submarine cable licensees. The rules replaced a voluntary outage reporting system that was in place for submarine cable operators with a mandatory outage reporting requirement similar to the requirements places on other part 4 licensees identified in 47 CFR 4.3. For outages of a certain scope and duration, a submarine cable licensee must file a Notification, Interim Report, and Final Report in the manner prescribed in 47 CFR 4.15. The outage reports are submitted to the Commission through its Network Outage Reporting System (NORS). This mandatory reporting system provides the Commission greater visibility into the availability and resiliency of submarine cable systems.

Federal Communications Commission.
Marlene Dortch,
Secretary, Office of the Secretary.

[FR Doc. 2024-00341 Filed 1-9-24; 8:45 am]

BILLING CODE 6712-01-P